UNITED STATES INTERNATIONAL TRADE COMMISSION

[USITC SE-03-007]

Sunshine Act Meeting

AGENCY: United States International Trade Commission.

Time and date: March 12, 2003 at 11 a.m.

Place: Room 101, 500 E Street SW., Washington, DC 20436, Telephone: (202) 205-2000.

Status: Open to the public.

Matters to be considered: 1. Agenda for future meetings: none.

2. Minutes.

3. Ratification List.

4. Inv. No. 731-TA-990 (Final) (Non-Malleable Cast Iron Pipe Fittings from China)—briefing and vote. (The Commission is currently scheduled to transmit its determination and Commissioners' opinions to the Secretary of Commerce on or before March 24, 2003).

5. Inv. Nos. 701-TA-319 and 322 and 731-TA-573 and 578 (Review) (Remand) (Certain Carbon Steel Products (Cut-to-Length Plate) from Belgium and Germany)—briefing and vote. (The Commission is currently scheduled to transmit its determination and Commissioners' views on remand to the U.S. Court of International Trade on or before March 28, 2003.)

6. Outstanding action jackets: none.

In accordance with Commission policy, subject matter listed above, not disposed of at the scheduled meeting, may be carried over to the agenda of the following meeting.

Issued: February 27, 2003.
By order of the Commission:
Marilyn R. Abbott,
Secretary to the Commission.

[FR Doc. 03-5183 Filed 2-28-03; 2:08 pm]

BILLING CODE 7020-02-P